DEPARTMENT OF EDUCATION

[CFDA No.: 84.235R]

Special Demonstration Programs—Projects for Orthotic and Prosthetic Research; Notice Inviting Applications for New Awards for Fiscal Year (FY) 2003

Purpose of program: To provide one-time funding in response to the Department of Education Appropriations Act, as enacted by section G of the Consolidated Appropriations Resolution for FY 2003 (ED Appropriations Act), for one or more projects designed to improve the quality of applied orthotic and prosthetic research and to help meet the increasing demand for provider services.

For FY 2003 the competition focuses on one or more projects designed to meet the priority described in the PRIORITY section of this application notice.

Eligible applicants: Public or nonprofit agencies or organizations, State vocational rehabilitation agencies, community rehabilitation programs, or Indian tribes or tribal organizations.

Applications available: July 28, 2003.

Deadline for transmittal of applications: August 27, 2003.

Deadline for intergovernmental review: September 26, 2003.

Available funds: $993,500. This amount will be reduced by an estimated $3,000 to $12,000 to cover peer reviewer costs.

Note: In no case will we make an award greater than $993,500 for a single budget period of 12 months.

Estimated number of awards: 1.

Note: The Department is not bound by any estimates in this notice.

Project period: Up to 12 months.

Page limit: The application narrative (Part III of the application) is where you, the applicant, address the selection criteria that reviewers use to evaluate your application. It is suggested that you limit Part III to 35 pages.

Applicable regulations: The Education Department General Administrative Regulations (EDGAR) in 34 parts 74, 75, 77, 79, 80, 81, 82, 85, 86, 97, and 99.

Note: The regulations in 34 CFR part 79 apply to all applicants except federally recognized Indian tribes.

Note: The regulations in 34 CFR part 86 apply to institutions of higher education only.

Selection criteria: In evaluating an application for a new grant under this competition, we use selection criteria chosen from the general selection criteria in 34 CFR 75.209 and 75.210 of EDGAR. The selection criteria to be used for this competition will be provided in the application package for this competition.

Priority

Background

The ED Appropriations Act includes $993,500 in the Rehabilitation Services and Disability Research account for activities to improve the quality of applied orthotic and prosthetic research and to help meet the demand for provider services. In addition, the accompanying conference report states that the conferees intend that these funds be used to support an orthotics and prosthetics awareness campaign, consisting of an educational outreach initiative designed to recruit and retain professionals and a series of consensus conferences to develop best practices in the field. The Senate Committee's report accompanying the Senate bill states that the Committee expects the Department to award the funding included in the bill for this purpose through a grant competition.

Absolute Priority

This competition focuses on projects designed to meet a priority that the Rehabilitation Services Administration (RSA) has chosen from allowable activities specified in the program statute (see 34 CFR 75.105(b)(2)(v) and section 303(b)(4)(E) of the Rehabilitation Act of 1973, as amended, (29 U.S.C. 773(b)). For FY 2003 this priority is an absolute priority. Under 34 CFR 75.105(c)(3) we consider only applications that meet this priority.

Projects must improve the quality of applied orthotic and prosthetic research and assist in meeting the increasing demand for provider services.

To meet the absolute priority requirements for special demonstration projects, the application must explain—

(1) How the project will improve the quality of applied orthotic and prosthetic research, especially research relating to the development of clinical standards of practice or care;

(2) How the project will help move research knowledge into practice;

(3) How the project will help to meet the increasing demand for provider services;

(4) How the project will support an orthotics and prosthetics awareness campaign consisting of an educational outreach initiative designed to recruit and retain professionals; and

(5) How the project plans to provide a series of consensus conferences to develop and disseminate best practices in the field to be used by both training programs and practitioners.

For applications contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify this competition as follows: CFDA number 84.235R.

Individuals with disabilities may obtain a copy of the application package in an alternative format by contacting the Grants and Contracts Services Team, U.S. Department of Education, 400 Maryland Avenue, SW., room 3317, Switzer Building, Washington, DC 20202-2550. Telephone: (202) 205-8207. If you use a telecommunications device for the deaf (TDD), you may call the Federal Information Relay Services (FIRS) at 1-800-877-8339. However, the Department is not able to reproduce in an alternative format the standard forms included in the application package.

FOR FURTHER INFORMATION CONTACT: Joyce Libby, U.S. Department of Education, 400 Maryland Avenue, SW., room 3320, Switzer Building, Washington, DC 20202-2650. Telephone: (202) 205-5392; or Theresa DeVaughn, U.S. Department of Education, 400 Maryland Avenue, SW., room 3316, Switzer Building, Washington, DC 20202-2650. Telephone: (202) 205-5392. If you use a telecommunications device for the deaf (TDD), you may call the Federal Information Relay Service (FIRS) at 1-800-877-8339.

Individuals with disabilities may obtain this notice in an alternative format (e.g., Braille, large print, audiotape, or computer diskette) on request to the program contact persons listed in the preceding paragraph.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using the PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 29 U.S.C. 773(b).

Dated: July 23, 2003.
Loretta Petty Chittum,
Acting Assistant Secretary for Special Education Rehabilitative Services.

[FR Doc. 03-19084 Filed 7-25-03; 8:45 am]

BILLING CODE 4000-01-P